DEPARTMENT OF TRANSPORTATION

Maritime Administration

Marine Transportation System National Advisory Council

ACTION: National Advisory Council Public Meeting.

SUMMARY: The Maritime Administration announces that the Marine Transportation System National Advisory Council (MTSNAC) will hold a meeting to discuss potential recommendations to the Secretary on the integration of marine highways into the national transportation system, options to provide a steady and reliable funding mechanism for port infrastructure development, methods to mitigate the impact of cargo diverted as a result of natural disasters, and surface transportation reauthorization issues. A public comment period will commence at 1:15 p.m. on February 13, 2014. To provide time for as many people to speak as possible, speaking time for each individual will be limited to three minutes. Members of the public who would like to speak are asked to contact Richard J. Lolich by February 7, 2014. Commenters will be placed on the agenda in the order in which notifications are received. If time allows, additional comments will be permitted. Copies of oral comments must be submitted in writing at the meeting. Additional written comments are welcome and must be filed by February 17, 2014.

DATES: The meeting will be held on Thursday, February 13, 2014, from 8:30 a.m. to 5:00 p.m.

ADDRESSES: The meeting will be held in the Media Center at the U.S. Department of Transportation Headquarters, 1200 New Jersey Ave. SE., Washington, DC 20590. To participate via teleconference, please contact Richard Lolich at the Maritime Administration as indicated below.

FOR FURTHER INFORMATION CONTACT: Richard Lolich, (202) 366-0704; Maritime Administration, MAR-540, Room W21-310, 1200 New Jersey Ave. SE., Washington, DC 20590-0001; richard.lolich@dot.gov.

(Authority: 5 U.S.C. App 2, Sec. 9(a)(2); 41 CFR 101-6. 1005; DOT Order 1120.3B)

Dated: January 28, 2014.
Christine Gurland,
Acting Secretary, Maritime Administration.

[FR Doc. 2014-02036 Filed 1-30-14; 8:45 am]

BILLING CODE 4910-81-P